SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before January 13, 2003.

ADDRESSES: Send all comments regarding whether this information collection is necessary for the proper performance of the function of the agency, whether the burden estimates are accurate, and if there are ways to minimize the estimated burden and enhance the quality of the collection, to Jihoon Kim, Financial Analyst, Office of Financial Assistance, Small Business Administration, 409 3rd Street, SW., Suite 8300, Washington, DC 20416.

FOR FURTHER INFORMATION CONTACT: Jihoon Kim, Financial Analyst, (202) 205-6024 or Curtis B. Rich, Management Analyst, (202) 205-7030.

SUPPLEMENTARY INFORMATION: Title: Secondary Market Assignment and Disclosure Form.

Form No: 1088.

Description of Respondents: Secondary Market Participants.

Annual Responses: 5,000.

Annual Burden: 7,500.

ADDRESSES: Send all comments regarding whether this information collection is necessary for the proper performance of the function of the agency, whether the burden estimates are accurate, and if there are ways to minimize the estimated burden and enhance the quality of the collection, to Robert Max, Procurement Analyst, Office of Government Contracting, Small Business Administration, 409 3rd Street, SW., Suite 8800, Washington, DC 20416.

FOR FURTHER INFORMATION CONTACT: Robert Max, Procurement Analyst, (202) 205-7321 or Curtis B. Rich, Management Analyst, (202) 205-7030.

Title: Application for Small Business Size Determination.

Form No: 355.

Description of Respondents: Small Businesses.

Annual Responses: 10,500.

Annual Burden: 42,000.

ADDRESSES: Send all comments regarding whether this information collection is necessary for the proper performance of the function of the agency, whether the burden estimates are accurate, and if there are ways to minimize the estimated burden and enhance the quality of the collection, to Cindy Pitts, Program Analyst, Office of Disaster Assistance, Small Business Administration, 409 3rd Street, SW., Suite 6050, Washington, DC 20416.

FOR FURTHER INFORMATION CONTACT: Cindy Pitts, Program Analyst, (202) 205-7570 or Curtis B. Rich, Management Analyst, (202) 205-7030.

Title: Borrower's Progress Certification.

Form No: 1366.

Description of Respondents: Recipients of disaster loans.

Annual Responses: 30,020.

Annual Burden: 15,010.

Jacqueline White,
Chief, Administrative Information Branch.

[FR Doc. 02-28684 Filed 11-8-02; 8:45 am]

BILLING CODE 8025-01-P